DEPARTMENT OF COMMERCE

Patent and Trademark Office

37 CFR Part 1

[Docket No.: PTO-P-2008-0023]

RIN 0651-AC28

Fiscal Year 2009 Changes to Patent Cooperation Treaty Transmittal and Search Fees

Correction

In proposed rule, document E8-13730 beginning on page 34672 in the issue of Wednesday, June 18, 2008, make the following correction:

1. On page 34674, in Table 1, in the second column, under the heading Fiscal year 2007 payments, in the first entry “$54,335” should read “54,335”.

§ 1.445 [Corrected]

2. On page 34676, in §1.445(a)(3), in the first column “$,225.00” should read “$2,225.00”.

[FR Doc. Z8-13730 Filed 7-1-08; 8:45 am]

BILLING CODE 1505-01-D